DEPARTMENT OF HEALTH AND HUMAN SERVICES

Centers for Disease Control and Prevention

[Program Announcement 01122]

National Programs That Build the Capacity of State and Local Health and Education Agencies To Reduce the Burden of Asthma Among Youth; Notice of Availability of Funds

A. Purpose

The Centers for Disease Control and Prevention (CDC) announces the availability of fiscal year (FY) 2001 funds for a cooperative agreement program for National Programs That Build the Capacity of State and Local Health and Education Agencies to Reduce the Burden of Asthma Among Youth. This program addresses the “Healthy People 2010” focus areas of Educational and Community-Based Programs, and Respiratory Diseases 24.1 to 24.8. Background information can be found in Appendix I.

The purpose of this announcement is to develop a national program that builds the capacity of state and local health and education agencies to reduce the burden of asthma and other important health problems among youth.

B. Eligible Applicants

Assistance will be provided to national organizations that are private health, education, or social service agencies (professional or voluntary); qualify as a non-profit 501(c)(3) entity; have the capacity to assist their local affiliates; and have affiliate offices or local/state/or regional membership constituencies in a minimum of 10 states and territories. Affiliate offices and local/state/or regional membership constituencies may not apply in lieu of, or on behalf of, their parent national office because organizations must have the capacity to influence the professional actions of their constituencies at the national level.

National organizations that are funded currently by CDC/Division of Adolescent and School Health (DASH) under program announcements 98005, 97065, 99023, 99072, 00026, 00079, 00081, 00109, 00618, 00719, are not eligible for this program announcement. A listing of these organizations is provided in Appendix II.

Note: Title 2 of the United States Code, Chapter 26, Section 1611 states that an organization described in section 501(c)(4) of the Internal Revenue Code of 1986 that engages in lobbying activities is not eligible to receive Federal funds constituting an award, grant, cooperative agreement, contract, loan or any other form.

C. Availability of Funds

Approximately $1,000,000 is available in FY 2001 to fund approximately four awards. It is expected that the average award will be $250,000, ranging from $200,000 to $275,000. It is expected that the awards will begin on or about August 1, 2001, and will be for a 12-month budget period within a project period of up to five years. Funding estimates may change.

Priority will be given to organizations whose direct constituents are school nurses, health care providers, school administrators, asthma and respiratory health groups and parent groups, and have the capacity to collaborate with state and local education and health agencies.

Continuation awards within an approved project period will be made on the basis of satisfactory progress as evidenced by required reports and the availability of funds.

D. Program Requirements

In conducting activities to achieve the purpose of this program, the recipient will be responsible for the activities under 1 (Recipient Activities), and CDC will be responsible for the activities listed under 2. (CDC Activities).

1. Recipient Activities

a. Collaborate with constituents; state and local education, health, and social service agencies; non-governmental partners; and federal government agencies to develop a national strategy to create school and community-based asthma education and management programs with the goal of reducing morbidity, mortality and school absenteeism associated with asthma and other important health problems of youth.

b. Establish specific, measurable, and realistic goals and objectives that reduce morbidity, mortality and school absenteeism associated with asthma.

c. Establish an operational plan that includes local education and health agencies collaborating with federal and state education and health agencies, and others engaged in school and community-based asthma education and management activities, in using existing or developing target-audience and discipline-specific training materials needed to effectively build the capacity of school personnel to implement a model coordinated school health program that addresses asthma education and management.

d. Build the capacity of constituents to better promote student, parent and school staff concerning asthma education and management. Implement a model coordinated school health program addressing asthma education and management.

e. Develop or use existing discipline-specific training materials for constituents to accompany a model coordinated school health program addressing asthma education and management.

f. Evaluate the effectiveness of the program in achieving goals and objectives at the school and/or district level.

g. Disseminate and share programmatic information, projected-related news with state and local education agencies, state and local health agencies, national organizations, and others through mechanisms such as the Internet, newsletters, clearinghouses, the mail and at workshops and conferences.

h. Help schools, or other agencies that serve young people, conduct coordinated programs that prevent behaviors that place elementary through secondary school-aged young people at risk for morbidity and mortality from asthma.

i. Collaborate with other national organizations to establish and maintain initiatives to prevent behavior that place elementary through secondary school-aged young people at risk for morbidity and mortality from asthma.

j. Educate managers, leaders, teachers, school nurses, decision makers, parents, families, media, businesses, and others who are members of national organizations and/or communities to act individually and collectively to support locally determined programs to reduce morbidity, mortality and school absenteeism related to asthma and teach asthma management.

k. Build the capacity of schools, community agencies and parents to establish and/or maintain programs that teach asthma management and reduce morbidity, mortality and school absenteeism related to asthma.

l. Provide technical assistance and training to professionals and parents to use proven, effective strategies and programs to prevent behaviors that place elementary through secondary school-aged young people at risk for morbidity, mortality and absenteeism related to asthma and to educate students who are not diagnosed with asthma.

m. Participate in national conferences through presentations and workshops to promote model coordinated school health programs addressing asthma education and management.

n. Participate in meetings with national, state, and local health and education agencies and other appropriate agencies to address issues and program activities related to improving coordinated school health programs; and strengthen the capacity of youth-serving agencies to teach asthma management and reduce the burden of asthma through coordinated school health programs.

2. CDC Activities

a. Assist with planning and conducting national strategies designed to teach asthma management and reduce morbidity and mortality associated with asthma through coordinated school health programs.

b. Provide programmatic consultation and guidance related to program planning, implementation, and evaluation; assessment of program objectives; and dissemination of successful strategies, experiences, and evaluation reports.

c. Assist in planning meetings of national, state, and local education and health agencies and other appropriate agencies to address issues and program activities related to improving coordinated school health programs; and strengthen the capacity of youth-serving agencies to teach asthma management and reduce morbidity and mortality associated with asthma through coordinated school health programs addressing asthma education and management.

d. Assist in the evaluation of program activities in achieving goals and objectives at the school and/or district level.

E. Application Content

Use the information in the Purpose, Program Requirements, Other Requirements, and Evaluation Criteria sections to develop the application content. Your application will be evaluated on the criteria listed, so it is important to follow the criteria as you construct your program plan. The narrative should be no more than 20 double-spaced pages, printed on one side, with one-inch margins, and unreduced font.

1. Background (No More Than 4 Pages)

a. Describe your organization's current structure (mission, goals, and membership or affiliates and their geographical representation). Describe how that structure can support school-based asthma education and management programs that are part of a coordinated school health program, including the potential role of your organization's primary constituency in a school asthma education and management initiative. Identify current gaps in the existing structure and implementation of school-based asthma education and management programs and discuss how your constituency can enhance the state and local education agencies ability to deliver an optimal asthma education and management program.

b. Describe your organization's constituency experience in assisting state and local education and health departments to develop an education and management strategy for asthma and other important health problems of youth. Priority will be given to organizations whose constituencies have a direct impact on asthma education and management programs including school nurses, health care providers, school administrators, asthma and respiratory health groups and parents.

c. Describe your organization's experience in developing and implementing policy related to asthma education and management in schools. Discuss potential limitations to existing policies and describe, if any, the need for new policies that address asthma education and management.

d. Describe your organization's experience in developing and implementing model policy, curricula, training programs, surveillance activities, and evaluation protocols. Describe your organization's experience providing technical assistance and training.

2. Operational Plan (No More Than 8 Pages)

a. Provide long-term (5-year) goals and short-term (1-year) objectives for the proposed project that build the capacity of coordinated school health programs to address asthma education and management at the local level. The objectives must be specific, time-phased, measurable, and realistic. The proposed objectives should compliment ongoing activities related to the “Healthy People 2010” focus area(s) of Educational and Community-Based Programs and Respiratory Diseases 24.1 to 24.8.

b. Submit a plan that proposes first year activities to build the capacity of your organization and others to support and/or implement a model asthma education and management program designed to teach asthma management and reduce morbidity, mortality and school absenteeism associated with asthma through coordinated school health programs. Include a time-line for the completion of each component or major activity that describes who will do what by when. Examples of acceptable activities can include, but are not limited to the Recipient Activities described in Section 1.

3. Administration and Management (No More Than 2 Pages)

a. Describe how the proposed professional staff will contribute to the overall school asthma education and management program and show on an organizational chart how the current or proposed placement of each staff will assure program implementation.

b. Demonstrate that existing or proposed professional staff have or will have the necessary background and qualifications for the proposed responsibilities and include a curriculum vitae for each proposed staff.

c. In an appendix to the application, provide an organizational chart that identifies lines of communication, accountability, reporting, authority, and describes management and control systems within your organization.

4. Collaboration (No More Than 2 Pages)

a. Describe the organization's current collaboration with local and state health and education departments. Describe your organization's collaboration with other federal agencies, national non-profit organizations, foundations, community-based groups, and others who have an interest in or whose mission includes asthma education or management programs, whether their efforts are school-based or not. Discuss how your collaborative relationship can strengthen this project. Indicate who you propose to collaborate with to implement the proposed Operational Plan. Include letters of participation and support documenting these anticipated collaborations. In particular, describe how the proposed activities compliment or build on existing asthma education or management programs.

b. Describe collaborative activities or anticipated relationships with other national organizations who support school-based health education programs including those related to asthma education and management. Include letters of participation and support documenting these anticipated collaborations. In particular, describe how your organization can compliment the activities of existing national organizations and how their expertise can support this proposed project.

5. Evaluation Plan (No More Than 2 Pages)

Describe plans to evaluate progress in meeting objectives and conducting activities during the budget period. Specify what questions will be asked, what data will be obtained and present a plan that includes how the data will be obtained, from whom, how it will be analyzed and disseminated, and used to improve the program. Indicate in the plan who will do what and by when.

6. Budget and Justification (No More Than 2 Pages)

Provide a detailed budget and line-item justification for all operating expenses that are consistent with proposed objectives and planned activities. The budget should include funds for travel to two CDC meetings during the budget year.

F. Submission and Deadline

Submit the original and two copies of PHS 5161-1 (OMB Number 0937-0189) on or before June 15, 2001, to the Grants Management Specialist identified in the “Where to Obtain Additional Information” section of this announcement. Forms are available in the kit and at the following Internet address: http://forms.psc.gov/

Deadline: Applications will be considered as meeting the deadline if they are either:

1. Received on or before the deadline date; or

2. Sent on or before the deadline date and received in time for submission to the independent review group. (Applicants must request a legibly dated U.S. Postal Service postmark or obtain a legibly dated receipt from a commercial carrier or U.S. Postal Service. Private metered postmarks are not acceptable as proof of timely mailing).

Late Applications: Applications which do not meet the criteria in 1. or 2. above will be returned to the applicant.

G. Evaluation Criteria

Each application will be evaluated individually against the following evaluation criteria by an independent review group appointed by CDC.

1. Background and Need (25 Points)

a. The extent to which the applicant describes the current organizational structure, the capacity of the organization to support school-based asthma education and management programs, and identifies current gaps in the existing structure of state and local education agencies that decreases the ability of the nation's schools to deliver an optimal asthma education and management program. (10 points)

b. The extent to which the applicant discusses barriers that contribute to the morbidity and mortality associated with asthma and the prevention of asthma symptoms, describes experience in assisting state and local education agencies and health departments current school asthma education and management programs, and describes experience assisting state and local agencies use of existing protocols, training, and educational materials. Priority will be given to organizations whose direct constituents are school nurses, health care providers, school administrators, asthma and respiratory health groups and parent groups. (5 points)

c. The extent to which the applicant describes experience in developing policy and programs related to asthma education and management, discusses gaps in existing policy and programs at the state and/or local level and discusses a proposal for new policy and programs. (5 points)

d. The extent to which the applicant describes experience in using existing or developing, and implementing model policy, curricula, and training programs, and describes the organization's experience providing technical assistance and training. (5 points)

2. Operational Plan (30 Points)

a. The extent to which the applicant provides long-term (5-year) goals and short-term (1-year) objectives for the proposed project that build the capacity of coordinated school health programs to address asthma education and management at the local level. The objectives must be specific, time-phased, measurable, and realistic. The proposed objectives should compliment ongoing activities related to the “Healthy People 2010” focus area(s) of Educational and Community-Based Programs and Respiratory Diseases 24.1 to 24.8. (15 Points)

b. The extent to which the applicant submits a plan that builds the capacity of its constituents and others to assist state and local education agencies in establishing a model school asthma education and management program designed to teach asthma management and reduce morbidity, mortality and school absenteeism related to asthma through coordinated school health programs and includes a time-line for the completion of each component or major activity that describes who will do what by when. The extent to which the proposed activities are comparable to the identified Recipient Activities described in Section D Program Requirements. (15 points)

3. Administration and Management (15 Points)

a. The extent to which the applicant provides job descriptions for existing and proposed professional positions and describes how the proposed professional staff will contribute to the overall school asthma education and management program and shows on an organizational chart how the current or proposed placement of each staff will assure program implementation. (5 points)

b. The extent to which the applicant demonstrates that existing or proposed staff have or will have the necessary background and qualifications for the proposed responsibilities and includes a curriculum vitae of each staff. (5 points)

c. The extent to which the applicant provides an organizational chart that identifies lines of communication, accountability, reporting, authority, and describes management and control systems within the organization and discusses how the proposed placement of the project in the organization will increase its likelihood of success. (5 points)

4. Collaboration (20 Points)

a. The extent to which the applicant describes current collaboration with state and/or local health and education departments, the organization's collaboration with other federal agencies, national non-profit organizations, foundations, community-based groups, and others who have an interest in or whose mission includes asthma education or management programs, and discusses how the current collaborative relationships can compliment the proposed project. The extent to which the applicant indicates proposed collaborative relationships that will support the proposed operational plan and includes letters of participation and support documenting these anticipated collaborations especially with proposed activities. (15 points)

b. The extent to which the applicant describes collaborative activities or anticipated relationships with other national organizations who support school-based health education programs including asthma education and management, and provides letters of participation and support documenting these anticipated collaborations. The extent to which the applicant describes how the organization can compliment the activities of existing organizations and how their expertise can support this proposed project. (5 points)

5. Evaluation Plan (10 Points)

The extent to which the applicant describes their plan to evaluate progress in meeting objectives and conducting activities during the budget period including their ability to describe: (1) what data will be obtained; (2) how the data will be obtained; (3) from whom the data will be obtained; (4) what analysis will be conducted; (5) how evaluation information will be disseminated; (6) how the evaluation data will be used to improve the program; and (7) who will implement the evaluation plan and by when.

6. Budget and Justification (Not Scored)

The extent to which the budget is reasonable and consistent with the purposes and activities of the program.

Other Requirements

Technical Reporting Requirements

Provide CDC with the original plus two copies of:

1. Annual progress reports.

2. Financial status report, no more than 90 days after the end of the budget period.

3. Final financial report and performance report, no more than 90 days after the end of the project period.

Send all reports to the Grants Management Specialist identified in the “Where to Obtain Additional Information” section of this announcement.

The following additional requirements are applicable to this program. For a complete description of each, see Attachment I of the application kit.

AR-7—Executive Order 12372 Review

AR-8—Public Health System Reporting Requirement

AR-9—Paperwork Reduction Act Requirements

AR-10—Smoke-Free Workplace Requirements

AR-11—Healthy People 2010

AR-12—Lobbying Restrictions

AR-14—Accounting System Requirements

AR-15—Proof of Non-Profit Status

I. Authority and Catalog of Federal Domestic Assistance Number

This program is authorized under sections 301(a), 311(b) and (c), and 317 (k)(2) [42 U.S.C. 241(a), 243(b) and (c), and 247b(K)(2)] of the Public Health Service Act, as amended. The Catalog of Federal Domestic Assistance number is 93.938.

J. Where To Obtain Additional Information

This and other CDC announcements can be found on the CDC home page Internet address—http://www.cdc.gov Click on “Funding” then “Grants and Cooperative Agreements.”

If you have questions after reviewing the contents of all documents, business management technical assistance may be obtained from: Cynthia Collins, Grants Management Specialist, Grants Management Branch, Centers for Disease Control and Prevention (CDC), Program Announcement 01122, 2920 Brandywine Rd, Room 3000, M/S E18, Atlanta, Georgia 30341-4146,Telephone number: (770) 488-2757, E-mail: coc9@cdc.gov

For program technical assistance, contact: Mary Vernon-Smiley, Chief, Special Populations Program Section, Program Development and Services Branch, Division of Adolescent and School Health, National Center for Chronic Disease Prevention and Health Promotion, Centers for Disease Control and Prevention, 4770 Buford Highway, NE M/S K31, Atlanta, GA 30341, Telephone number: (770) 488-6199, E-Mail: mev0@cdc.gov

Dated: May 11, 2001.
John L. Williams,
Director, Procurement and Grants Office, Centers for Disease Control and Prevention (CDC).

[FR Doc. 01-12424 Filed 5-16-01; 8:45 am]

BILLING CODE 4163-18-P